DEPARTMENT OF LABOR

Office of the Secretary

Bureau of International Labor Affairs; Office of Trade and Labor Affairs; North American Agreement on Labor Cooperation; Notice of Extension of the Period for Acceptance for Submission #2018-01 (Mexico)

AGENCY: Bureau of International Labor Affairs, U.S. Department of Labor.

ACTION: Notice.

SUMMARY: The Office of Trade and Labor Affairs (OTLA) in the Bureau of International Labor Affairs of the U.S. Department of Labor has determined that an extension of time is required for its decision on whether to accept Submission #2018-01 for review concerning Mexico (the Submission) filed under Article 16.3 of the North American Agreement on Labor Cooperation (NAALC).

On January 25, 2018, OTLA received the Submission from the American Federation of Labor and Congress of Industrial Organizations (AFL-CIO) and Mexico's National Workers Union. It alleges that the introduction of reforms to the Federal Labor Law of Mexico would violate Mexico's obligations under the NAALC.

In accordance with its published Procedural Guidelines (71 FR 76694 (2006)), OTLA has 60 days, unless circumstances as determined by OTLA require an extension of time, to determine whether to accept a submission for review. OTLA has determined that circumstances require an extension of time to determine whether to accept the Submission. The U.S. Secretary of Labor and the Mexican Minister of Labor and Social Welfare are scheduled to meet this month. Part of the discussion will include issues germane to the subject of the Submission. In light of these forthcoming discussions, and because the subject of the Submission is proposed legislation that is being debated in the Mexican legislative session that concludes on April 30, 2018, OTLA has determined that it is prudent to extend the time period for determining whether to accept the Submission for review.

DATES: Effective Date: March 21, 2018.

FOR FURTHER INFORMATION CONTACT: Matthew Levin, Director, OTLA, U.S. Department of Labor, 200 Constitution Avenue NW, Room S-5303, Washington, DC 20210. Telephone: (202) 693-4900 (this is not a toll-free number).

Signed at Washington, DC on March 19, 2018.
Martha E. Newton,
Deputy Undersecretary for International Affairs.

[FR Doc. 2018-05866 Filed 3-20-18; 8:45 am]

BILLING CODE 4510-28-P